DEPARTMENT OF THE INTERIOR

Fish and Wildlife Service

[FWS-R9-LE-2009-N280; 99011-1224-0000-9B]

Information Collection Sent to the Office of Management and Budget (OMB) for Approval; OMB Control Number 1018-0012; Declaration for Importation or Exportation of Fish or Wildlife

AGENCY: Fish and Wildlife Service, Interior.

ACTION: Notice; request for comments.

SUMMARY: We (Fish and Wildlife Service) have sent an Information Collection Request (ICR) to OMB for review and approval. We summarize the ICR below and describe the nature of the collection and the estimated burden and cost. This ICR is scheduled to expire on January 31, 2010. We may not conduct or sponsor and a person is not required to respond to a collection of information unless it displays a currently valid OMB control number. However, under OMB regulations, we may continue to conduct or sponsor this information collection while it is pending at OMB.

DATES: You must send comments on or before January 22, 2010.

ADDRESSES: Send your comments and suggestions on this information collection to the Desk Officer for the Department of the Interior at OMB-OIRA at (202) 395-5806 (fax) or OIRA_DOCKET@OMB.eop.gov (e-mail). Please provide a copy of your comments to Hope Grey, Information Collection Clearance Officer, Fish and Wildlife Service, MS 222-ARLSQ, 4401 North Fairfax Drive, Arlington, VA 22203 (mail) or hope_grey@fws.gov (e-mail).

FOR FURTHER INFORMATION CONTACT: To request additional information about this ICR, contact Hope Grey by mail or e-mail (see ADDRESSES) or by telephone at (703) 358-2482.

SUPPLEMENTARY INFORMATION:

OMB Control Number: 1018-0012.

Title: Declaration for Importation or Exportation of Fish or Wildlife, 50 CFR 14.61 - 14.64.

Service Form Number(s): 3-177 and 3-177a.

Type of Request: Extension of a currently approved collection.

Affected Public: Businesses or individuals that import or export fish, wildlife, or wildlife products; scientific institutions that import or export fish or wildlife scientific specimens; and government agencies that import or export fish or wildlife specimens for various purposes.

Respondent's Obligation: Required to obtain or retain a benefit.

Frequency of Collection: On occasion.

Activity | Number of annual respondents | Number of annual responses | Completion time per response | Annual burden hours
3-177 - Hard Copy Submission | 4,200 | 37,000 | 15 minutes | 9,251
3-177 -Electronic Submission | 16,500 | 145,000 | 10 minutes | 24,166
Totals | 20,700 | 182,000 |  | 33,417

Abstract: The Endangered Species Act (16 U.S.C. 1531 et seq.) makes it unlawful to import or export fish, wildlife, or plants without filing a declaration or report deemed necessary for enforcing the Act or upholding the Convention on International Trade in Endangered Species (CITES) (see 16 U.S.C. 1538(e)). With a few exceptions, businesses, individuals, or government agencies importing into or exporting from the United States any fish, wildlife, or wildlife product must complete and submit to the Service an FWS Form 3-177 (Declaration for Importation or Exportation of Fish or Wildlife). This form as well as FWS Form 3-177a (Continuation Sheet) and instructions for completion are available for electronic submission at https://edecs.fws.gov. These forms are also available in hard copy at http://www.fws.gov/forms/ .

The information that we collect is unique to each wildlife shipment and enables us to:

• Accurately inspect the contents of the shipment;

• Enforce any regulations that pertain to the fish, wildlife, or wildlife products contained in the shipment; and

• Maintain records of the importation and exportation of these commodities.

Businesses or individuals must file FWS Forms 3-177 and 3-177a with us at the time and port where they request clearance of the import or export of wildlife or wildlife products. Our regulations allow for certain species of wildlife to be imported or exported between the United States and Canada or Mexico at U.S. Customs and Border Protection ports, even though our wildlife inspectors may not be present. In these instances, importers and exporters may file the forms with U.S. Customs and Border Protection. We collect the following information:

(1) Name of the importer or exporter and broker.

(2) Scientific and common name of the fish or wildlife.

(3) Permit numbers (if permits are required).

(4) Description, quantity, and value of the fish or wildlife.

(5) Natural country of origin of the fish or wildlife.

In addition, certain information, such as the airway bill or bill of lading number, the location of the fish or wildlife for inspection, and the number of cartons containing fish or wildlife, assists our wildlife inspectors if a physical examination of the shipment is necessary.

Comments: On August 13, 2009, we published in the Federal Register (74 FR 40836) a notice of our intent to request that OMB renew this ICR. In that notice, we solicited comments for 60 days, ending on October 13, 2009. We received one comment. The commenter strongly supported the collection of this information and suggested the following ways to improve the quality of data collected:

Issue: FWS Form 3-177 should have language stating that filing a false or incomplete declaration may result in a penalty.

Response: The form already includes this language. FWS Form 3-177 contains the following statement: “Knowingly making a false statement in a Declaration for Importation or Exportation of Fish and Wildlife may subject the declarant to the penalty provided by 18 U.S.C. 1001 and 16 U.S.C. 3372(d).” In addition, item 22 of the form includes the following certification statement prior to signature “I certify under penalty of perjury that the information furnished is true and correct.” We have added this language to the instructions as well.

Issue: The instructions for FWS Form 3-177 should include more direction on how the species and subspecies should be identified. Also, instructions are needed regarding entering the identifier number and ID type for questions 13, 14, and 15.

Response: The instructions for FWS Form 3-177 include guidance for accurately identifying species, including the requirement to provide the scientific name (Latin name including genus and species and subspecies, if applicable) and the common name in English. The instructions also include guidance for entering the identifier number and ID type.

Issue: The Service should standardize the units of measure used on FWS Form 3-177 incorporating quantity, length, weight, and volume.

Response: We do not believe that this is practical and have not made any changes to the form or instructions.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: December 17, 2009.
Hope Grey,
Information Collection Clearance Officer, Fish and Wildlife Service.

[FR Doc. E9-30552 Filed 12-22-09; 8:45 am]

BILLING CODE 4310-55-S